DEPARTMENT OF ENERGY

Federal Energy Regulatory Commission

[Docket No. EG02-16-000, et al.]

Dominion Montgomery, Inc., et al.; Electric Rate and Corporate Regulation Filings

November 5, 2001.

Take notice that the following filings have been made with the Commission:

1. Dominion Montgomery, Inc.

[Docket No. EG02-16-000]

Take notice that on October 31, 2001, Dominion Montgomery, Inc. (Montgomery) filed with the Federal Energy Regulatory Commission (Commission) an application for determination of exempt wholesale generator status pursuant to part 365 of the Commission's regulations.

Montgomery, a Delaware corporation, is a wholly owned subsidiary of Dominion Energy, Inc., a Virginia corporation, which in turn is a wholly owned subsidiary of Dominion Resources, Inc., also a Virginia corporation. Montgomery will be exclusively engaged in the business of owning, operating and selling electricity exclusively at wholesale from an approximately 600 MW electric generating facility located in Montgomery County near Clarksville, Tennessee. The facility will be interconnected with transmission system of the Tennessee Valley Authority.

Comment date: November 26, 2001, in accordance with Standard Paragraph E at the end of this notice. The Commission will limit its consideration of comments to those that concern the adequacy or accuracy of the application.

2. Dominion Hickman, Inc.

[Docket No. EG02-17-000]

Take notice that on October 31, 2001, Dominion Hickman, Inc. (Hickman) filed with the Federal Energy Regulatory Commission (Commission) an application for determination of exempt wholesale generator status pursuant to part 365 of the Commission's regulations.

Hickman, a Delaware corporation, is a wholly owned subsidiary of Dominion Energy, Inc., a Virginia corporation, which in turn is a wholly owned subsidiary of Dominion Resources, Inc., also a Virginia corporation. Hickman will be exclusively engaged in the business of owning, operating and selling electricity exclusively at wholesale from an approximately 600 MW electric generating facility located in Hickman County near Centerville, Tennessee. The facility will be interconnected with the transmission system of the Tennessee Valley Authority.

Comment date: November 26, 2001, in accordance with Standard Paragraph E at the end of this notice. The Commission will limit its consideration of comments to those that concern the adequacy or accuracy of the application.

3. Sunbury Generation, LLC v. PPL Electric Utilities Corporation

[Docket No. EL02-12-000]

Take notice that on October 31, 2001, Sunbury Generation, LLC (Sunbury) filed the amended testimony of Mr. James Jay Nick, Exhibit No. SUN-5, in the above-referenced proceeding.

Copies of the filing were served upon PPL Electric Utilities Corporation and all other parties in accordance with Rule 206(c) and Rule 2010 of the Commission's Rules of Practice and Procedure.

Comment date: November 30, 2001, in accordance with Standard Paragraph E at the end of this notice.

4. Western Systems Power Pool

[Docket No. ER91-195-048]

Take notice that on October 30, 2001, the Western Systems Power Pool (WSPP) filed with the Federal Energy Regulatory Commission (Commission) certain information as required by Ordering Paragraph (D) of the Commission's June 27, 1991 Order and Ordering Paragraph (C) of the Commission's June 1, 1992 Order On Rehearing Denying Request Not To Submit Information, and Granting In Part and Denying In Part Privileged Treatment. Pursuant to 18 CFR 385.211 (1999).

WSPP has requested privileged treatment for some of the information filed consistent with the June 1, 1992 order. Copies of the WSPP's informational filing are on file with the Commission, and non-privileged portions are available for public inspections.

Comment date: November 20, 2001, in accordance with Standard Paragraph E at the end of this notice.

5. PPL Montana, LLC

[Docket No. ER01-2501-003]

Take notice that, on October 31, 2001, PPL Montana, LLC (PPLM) tendered for filing with the Federal Energy Regulatory Commission (Commission) a revised rate schedule for the 1964 Pacific Northwest Coordination Agreement (PNCA). PPLM is revising its PNCA Rate Schedule to comply with Order No. 614 formatting requirements and to include updated 2000-2001 PNCA Operating Procedures pursuant to the Commission's October 1, 2001 order in Docket No. ER01-2501-000.

Comment date: November 21, 2001, in accordance with Standard Paragraph E at the end of this notice.

6. Avista Corporation

[Docket No. ER01-2501-004]

Notice is hereby given that on October 31, 2001, a replacement rate schedule for Avista Corporation's (formerly known as The Washington Water Power Company) filing of the Pacific Northwest Coordination Agreement, Rate Schedule No. 97, has been filed with the Federal Energy Regulatory Commission (Commission). The filing is made pursuant to the Commission's order in Docket No. ER01-2501 and Rule 614. Avista Corporation is refiling the Pacific Northwest Coordination Agreement in a form compliant with Rule 614 as Avista Corporation Rate Schedule No. 290 with a proposed effective date of January 1, 2002.

A copy of this filing has been sent to the parties listed on the attached Service List.

Comment date: November 21, 2001, in accordance with Standard Paragraph E at the end of this notice.

7. Avista Corporation

[Docket No. ER01-2501-005]

Notice is hereby given that on October 31, 2001, a replacement rate schedule for PacifiCorp's filing of the Pacific Northwest Coordination Agreement, Rate Schedule No. 160, has been filed with the Federal Energy Regulatory Commission (Commission). The filing is made pursuant to the Commission's order in Docket No. ER01-2501 and Rule 614. PacifiCorp is refiling the Pacific Northwest Coordination Agreement in a form compliant with Rule 614 as PacifiCorp Rate Schedule No. 544 with a proposed effective date of January 1, 2002.

A copy of this filing has been sent to the parties to the Pacific Northwest Coordination Agreement.

Comment date: November 21, 2001, in accordance with Standard Paragraph E at the end of this notice.

8. Wisconsin Public Service Corporation

[Docket No. ER02-140-001]

Take notice that on October 31, 2001, Wisconsin Public Service Corporation (WPSC) tendered for filing with the Federal Energy Regulatory Commission (Commission) a revised partial requirements service agreement with Manitowoc Public Utilities (MPU). Third Revised Service Agreement No. 5 provides MPU's contract demand nominations for January 2002-December 2006, under WPSC's W-2A partial requirements tariff.

The company states that copies of this filing have been served upon MPU and to the State Commissions where WPSC serves at retail.

Comment date: November 21, 2001, in accordance with Standard Paragraph E at the end of this notice.

9. PPL Montana, LLC

[Docket No. ER02-176-000]

Take notice that on October 26, 2001, PPL Montana, LLC (PPL Montana) filed with the Federal Energy Regulatory Commission (Commission) the Edison Electric Institute/National Energy Marketers Association Master Power Purchase and Sale Agreement (Version 2.1, modified 4/25/00), paginated in accordance with Order No. 614, to be added to PPL Montana's pro forma rate schedule, as well as two executed service agreements thereunder between PPL Montana and The Montana Power Company (Montana Power) also designated in accordance with Order No. 614. The first service agreement is for 300 MW of Firm (LD) power and the second is for 150 MW of Unit Firm power. Both service agreements provide for sales of energy by PPL Montana to Montana Power and comprise a portion of Montana Power's power portfolio for default retail customer service.

PPL Montana requests that the Commission grant a waiver so as to permit the service agreements to become effective on October 15, 2001. PPL Montana also requests Commission action so as to permit privileged and confidential treatment of various provisions of the service agreements, which it alleges contain commercially sensitive information that may harm Montana Power if released. PPL Montana has filed a redacted version of the service agreements suitable for release to the public. PPL Montana states that it has served a copy of this filing on Montana Power.

Comment date: November 16, 2001, in accordance with Standard Paragraph E at the end of this notice.

10. Smarr EMC

[Docket No. ER02-206-000]

Take notice that on October 31, 2001, Smarr Electric Membership Cooperative (Smarr) tendered for filing with the Federal Energy Regulatory Commission (Commission) pursuant to 18 CFR 35.13 revisions to Smarr's FERC Electric Tariff Rate No. 1 and No. 2. Copies of this filing have been mailed to each of Smarr's Member-Owner/Purchasers, reflected on the attached certificate of service.

Smarr respectfully requests that the amendments to its Rate Schedules become effective January 1, 2002.

Comment date: November 21, 2001, in accordance with Standard Paragraph E at the end of this notice.

11. Exelon Generation Company, LLC Exelon Energy Company

[Docket No. ER02-207-000]

Take notice that on October 30, 2001, Exelon Generation Company, LLC, and Exelon Energy Company tendered for filing with the Federal Energy Regulatory Commission (Commission) service agreements under their market-based rate wholesale power sales tariffs under which they will make sales of capacity and energy to each other.

Comment date: November 20, 2001, in accordance with Standard Paragraph E at the end of this notice.

12. Pacific Gas and Electric Company

[Docket No. ER02-208-000]

Take notice that on October 31, 2001, Pacific Gas and Electric Company (PG&E) tendered for filing with the Federal Energy Regulatory Commission (Commission) revisions to its Reliability Must-Run Service Agreements (RMR Agreements) with the California Independent System Operator Corporation (ISO) for Helms Power Plant (Helms), PG&E First Revised Rate Schedule FERC No. 207, Humboldt Bay Power Plant (Humboldt Bay), PG&E First Revised Rate Schedule FERC No. 208, Hunters Point Power Plant (Hunters Point), PG&E First Revised Rate Schedule FERC No. 209, and San Joaquin Power Plant (San Joaquin), PG&E First Revised Rate Schedule FERC No. 211. This filing revises portions of the Rate Schedules to adjust the values for Contract Service Limits and Owner's Repair Cost Obligation (as to Humboldt Bay and Hunters Point only), Annual Fixed Revenue Requirement and related rates and charges (as to all Units), Variable O&M Rate (as to Humboldt Bay only), Unit Hourly Cap Heat Input (as to Hunters Point only), and the names and addresses of persons designated to receive Notices under the Agreement (as to all Units). These changes are expressly required and/or authorized under the RMR Agreement.

Copies of PG&E's filing have been served upon the ISO, the California Electricity Oversight Board, and the California Public Utilities Commission.

Comment date: November 21, 2001, in accordance with Standard Paragraph E at the end of this notice.

13. Rayburn Country Electric Cooperative, Inc.

[Docket No. ER02-210-000]

Take notice that Rayburn Country Electric Cooperative Inc., (Rayburn Electric) on October 31, 2001, tendered with the Federal Energy Regulatory Commission (Commission) proposed changes in its Rate Schedule WP-2 on file with the Federal Energy Regulatory Commission. Rayburn Electric has requested approval of a change in its formula rate to modify the Times Interest Earned Ratio (TIER) and Debt Service Coverage (DSC).

Rayburn Electric seeks to increase the TIER to 2.0 from a current level of 1.2 and increase the DSC to 1.5 from a current level of 1.1. The requested change will allow Rayburn Electric to increase equity levels. Rayburn has requested an effective date of December 31, 2001 to implement this change. Copies of the rate filing have been served upon Rayburn Electric's members.

Comment date: November 21, 2001, in accordance with Standard Paragraph E at the end of this notice.

14. Vermont Yankee Nuclear Power Corporation

[Docket No. ER02-211-000]

Take notice that on October 31, 2001, Vermont Yankee Nuclear Power Corporation (Vermont Yankee) submitted for filing with the Federal Energy Regulatory Commission (Commission) agreements modifying Vermont Yankee's wholesale power contracts (2001 Amendatory Agreement). Vermont Yankee states that the 2001 Amendatory Agreements are submitted in connection with the sale of its nuclear generating plant and would reduce its charges to wholesale purchasers.

Vermont Yankee states that copies of this filing have been served upon each purchaser served under this rate schedule and to each jurisdictional State Commission.

Comment date: November 21, 2001, in accordance with Standard Paragraph E at the end of this notice.

15. PJM Interconnection, L.L.C.

[Docket No. ER02-212-000]

Take notice that on October 31, 2001, PJM Interconnection, L.L.C. (PJM), on behalf of Allegheny Electric Cooperative (Allegheny), submitted for acceptance or approval Allegheny's revenue requirement associated with the reactive power service production of Allegheny's William F. Matson Hydroelectric Generating Station. Allegheny makes this submission to enable PJM to collect this revenue requirement from PJM Open Access Transmission Tariff (PJM Tariff) Schedule 2 customers and allocate to Allegheny an appropriate share of the revenues collected by PJM for reactive power service.

To comply with the Federal Energy Regulatory Commission's September 27, 2001 letter order in Docket No. ER01-2735, PJM also submitted a revised Schedule 2 of the PJM Tariff that adds a chart listing, by PJM zone, each generator's annual and monthly reactive power service revenue requirement.

PJM requests an effective date of January 1, 2002, for the amendments.

Copies of this filing were served upon all PJM members and the state electric regulatory commissions in the PJM control area.

Comment date: November 21, 2001, in accordance with Standard Paragraph E at the end of this notice.

16. Southwestern Public Service Company

[Docket No. ER02-213-000]

Take notice that on October 31, 2001, Southwestern Public Service Company (Southwestern) tendered for filing with the Federal Energy Regulatory Commission (Commission) a proposed amendment to its delivery point listing with Central Valley Electric Cooperative, Inc. (Central Valley).

The proposed amendment reflects a new delivery point for service to Central Valley.

Comment date: November 21, 2001, in accordance with Standard Paragraph E at the end of this notice.

17. Consolidated Water Power Company

[Docket No. ER02-214-000]

Take notice that on October 31, 2001, Consolidated Water Power Company (CWP) tendered for filing with the Federal Energy Regulatory Commission (Commission) an umbrella service agreement with Wisconsin Public Service Corporation (WPSC) under CWP's market-based rates tariff, FERC Electric Rate Schedule No. 1.

CWP requests that the umbrella service agreement be made effective on June 11, 2001.

CWP states that it has served the Customer with a copy of this filing.

Comment date: November 21, 2001, in accordance with Standard Paragraph E at the end of this notice.

18. California Independent System Operator Corporation

[Docket No. ER02-215-000]

Take notice that on October 29, 2001, the California Independent System Operator Corporation (ISO) submitted for filing with the Federal Energy Regulatory Commission (Commission), for informational purposes, amendments and revisions to a number of Demand Relief Agreements.

The ISO has served copies of this filing upon the Public Utilities Commission of the State of California, the California Energy Commission, the California Electricity Oversight Board, all parties with effective Scheduling Coordinator Service Agreements under the ISO Tariff, and parties with which the ISO has agreed to Summer 2001 Demand Relief Agreements.

Comment date: November 19, 2001, in accordance with Standard Paragraph E at the end of this notice.

19. Rathdrum Power, LLC

[Docket No. ER02-216-000]

Take notice that on October 31, 2001, Rathdrum Power, LLC tendered for filing with the Federal Energy Regulatory Commission (Commission) under its market-based rate tariff the Fourth Amendment to the long-term service agreement between Rathdrum Power, LLC and Avista Energy, Inc., as assigned to Avista Turbine Power, Inc.

Comment date: November 21, 2001, in accordance with Standard Paragraph E at the end of this notice.

20. Northeast Utilities Service Company, The Connecticut Light and Power Company, Western Massachusetts Electric Company, Holyoke Water Power Company, Holyoke Power and Electric Company, Public Service of New Hampshire, Select Energy, Inc., Northeast Generation Company

[Docket No. ER02-217-000]

Take notice that on October 31, 2001, Northeast Utilities Service Company (NUSCO), on behalf of The Connecticut Light and Power Company, Western Massachusetts Electric Company, Holyoke Water Power Company, Holyoke Power and Electric Company, and Public Service of New Hampshire, and Select Energy, Inc., and Northeast Generation Company (collectively, Applicants) tendered for filing a request to cancel the codes of conduct governing the business relationships among the NU Operating Companies, Select, and NGC and revised market based rate tariffs to remove certain restrictions on inter-affiliate transactions.

Applicants request an effective date of November 1, 2001.

Comment date: November 21, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28279 Filed 11-9-01; 8:45 am]

BILLING CODE 6717-01-P